DEPARTMENT OF THE INTERIOR

National Park Service

[NPS-WASO-NAGPRA-17131; PPWOCRADN0-PCU00RP14.R50000]

Notice of Intent to Repatriate Cultural Items: Southern Oregon Historical Society, Medford, OR

AGENCY: National Park Service, Interior.

ACTION: Notice.

SUMMARY: The Southern Oregon Historical Society in consultation with the appropriate Indian tribes or Native Hawaiian organizations has determined that the cultural items listed in this notice meet the definition of unassociated funerary objects. Lineal descendants or representatives of any Indian tribe or Native Hawaiian organization not identified in this notice that wish to claim these cultural items should submit a written request to the Southern Oregon Historical Society. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Southern Oregon Historical Society at the address in this notice by January 21, 2015.

ADDRESS: Tina Reuwsaat, Assoc. Curator, Southern Oregon Historical Society, 106 N. Central Ave., Medford, OR 97501, telephone (541) 941-6505, email curator@sohs.org.

SUPPLEMENTARY INFORMATION: Notice is here given in accordance with the Native American Graves Protection and Repatriation Act (NAGPRA), 25 U.S.C. 3005, of the intent to repatriate cultural items under the control of the Southern Oregon Historical Society that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

On July 25, 1950, Leon Haskins donated one item to the Southern Oregon Historical Society (SOHS). It is not known how or when Mr. Haskins acquired this item. SOHS accession number 704 is one string of 83 pinyon pine nut shells. These pinyon pine nut shells are dark gray in color and are strung on a cord. Records state that these “beads were from Klamath, not to be confused with Klamath Falls, as Klamath is at the mouth of the Klamath River.”

On February 26, 1962, Helen Strang donated two lots of loose beads to SOHS. The beads were collected by Vinton Beall, a relative of Ms. Strang, but there is no documentation of when these beads were acquired. SOHS accession number 1962.6.7.2 is one lot of loose beads made from glass and one lot of loose beads made from shells. The one lot of glass beads are of many colors: Blue, white, purple, green, and pink. The one lot of shell beads are six white, thin, disk-shaped shell beads. Some of the beads have a melted appearance and are fused together. Records contain an original handwritten note that states, “August (18)96. Beads from Klamath Indian crematory grounds on Pelican Bay.”

On October 14, 1951, Clarence Lane donated two items to SOHS. It is not known when Mr. Lane acquired these two items. SOHS accession numbers 3010.1 and .2 are two necklaces. The first necklace is 35 inches in length and is strung on wire. The necklace is made from one dentalium shell, three olivella shells, ten pinyon pine nut shells and glass beads in the colors of blue, green, black, red, turquoise, and colorless, one bead in gray with red stripe and one black tubular shaped bead with brass ends. The second necklace is 15.75 inches in length and strung on wire and twine. The necklace is made from glass beads in the colors of: Blue, red, white, black, and green, 28 pinyon pine nut shells, three olivella shells, one silver colored metallic bead, one brass button with red glass center and one metal thimble. Records state that these are “two strings dug up from Indian grave.”

Representatives of the Smith River Rancheria, California, have requested repatriation of these items. Based on the information available and consultation with the tribe, these items were removed from within the traditional tribal territory of the Smith River Rancheria, California, and are determined to be unassociated funerary objects.

Determinations Made by the Southern Oregon Historical Society

Officials of the Southern Oregon Historical Society have determined that:

• Pursuant to 25 U.S.C. 3001(3)(B), the five cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Smith River Rancheria, California.

Additional Requestors and Disposition

Lineal descendants or representatives of any Indian tribe or Native Hawaiian organization not identified in this notice that wish to claim these cultural items should submit a written request with information in support of the claim to Tina Reuwsaat, Assoc. Curator, Southern Oregon Historical Society, 106 N. Central Ave., Medford, OR 97501, telephone (541) 941-6505, email curator@sohs.org, by January 21, 2015. After that date, if no additional claimants have come forward, transfer of control of the unassociated funerary objects to the Smith River Rancheria, California, may proceed.

The Southern Oregon Historical Society is responsible for notifying the Smith River Rancheria, California, that this notice has been published.

Dated: November 5, 2014.
Melanie O'Brien,
Acting Manager, National NAGPRA Program.

[FR Doc. 2014-29892 Filed 12-19-14; 8:45 am]

BILLING CODE 4312-50-P